ENVIRONMENTAL PROTECTION AGENCY

[ER-FRL-9038-5]

Environmental Impact Statements; Notice of Availability

Responsible Agency: Office of Federal Activities, General Information (202) 564-7156 or https://www2.epa.gov/nepa.

Weekly receipt of Environmental Impact Statements

Filed 03/26/2018 Through 03/30/2018

Pursuant to 40 CFR 1506.9.

Notice

Section 309(a) of the Clean Air Act requires that EPA make public its comments on EISs issued by other Federal agencies. EPA's comment letters on EISs are available at: https://cdxnodengn.epa.gov/cdx-nepa-public/action/eis/search.

EIS No. 20180053, Draft, USFWS, CA, Draft Environmental Impact Statement/Report, Phase 2, Eden Landing Ecological Reserve, Comment Period Ends: 05/21/2018, Contact: Anne Morkill (510) 792-0222.

EIS No. 20180055, Draft, USFS, MN, Hi Lo Project, Comment Period Ends:05/21/2018, Contact: Linda Merriman (218) 365-2095.

EIS No. 20180056, Final, FHWA, WA, Washington State Convention Center Addition and King County Site Work, under 23 U.S.C. 139(n)(2), FTA has issued a single document that consists of a final environmental impact statement and record of decision. Therefore, the 30-day wait/review period under NEPA does not apply to this action.” Contact: Sharon P. Love (360) 753-9558.

EIS No. 20180057, Draft, USFS, CO, Golden Peak Improvements 2016, Comment Period Ends: 05/21/2018, Contact: Max Forgensi (970) 309-4861.

Dated: April 3, 2018.
Kelly Knight,
Director, NEPA Compliance Division, Office of Federal Activities.

[FR Doc. 2018-07022 Filed 4-5-18; 8:45 am]

BILLING CODE 6560-50-P